DEPARTMENT OF HOUSING AND URBAN DEVELOPMENT

[Docket No. FR-6549-N-01]

Notice of Federal Advisory Committee Meeting; Manufactured Housing Consensus Committee (MHCC)

AGENCY: Office of the Assistant Secretary for Housing—Federal Housing Commissioner, Department of Housing and Urban Development (HUD).

ACTION: Notice.

SUMMARY: This notice sets forth the schedule and proposed agenda for a meeting of the Manufactured Housing Consensus Committee (MHCC) to be held on June 24, 2025, from 11:00 a.m. to 5:00 p.m. Eastern Daylight Time (EDT) via teleconference and webinar. The meeting is open to the public. The agenda provides an opportunity for interested parties to comment on the business before the MHCC.

DATES: The MHCC meeting will be held on June 24, 2025, 11:00 a.m. to 5:00 p.m. Eastern Daylight Time (EST).

ADDRESSES: The June meeting will be held via teleconference.

The teleconference number for the meeting is:

Phone: 301-715-8592 or 646-931-3860.

Meeting ID: 823 0328 2875.

To access the webinar, use the following link: https://us06web.zoom.us/j/82303282875.

FOR FURTHER INFORMATION CONTACT: Mary Jo Houton, Acting Administrator, Office of Manufactured Housing Programs, Department of Housing and Urban Development, 451 7th Street SW, Room 9166, Washington, DC 20410, telephone (202) 708-6423 (this is not a toll-free number). HUD welcomes and is prepared to receive calls from individuals who are deaf or hard of hearing, as well as from individuals with speech or communication disabilities. To learn more about how to make an accessible telephone call, please visit https://www.fcc.gov/consumers/guides/telecommunications-relay-service-trs.

SUPPLEMENTARY INFORMATION:

Background

Notice of these meetings is provided in accordance with the Federal Advisory Committee Act. 5 U.S.C. 1009(a)(2) through implementing regulations at 41 CFR 102-3.150. The MHCC was established by the National Manufactured Housing Construction and Safety Standards Act of 1974, 42 U.S.C. 5403(a)(3), as amended by the Manufactured Housing Improvement Act of 2000 (Pub. L. 106-569). According to 42 U.S.C. 5403, as amended, the purposes of the MHCC are to:

(1) Provide periodic recommendations to the Secretary to adopt, revise, and interpret the Federal manufactured housing construction and safety standards in accordance with this subsection;

(2) Provide periodic recommendations to the Secretary to adopt, revise, and interpret the procedural and enforcement regulations, including regulations specifying the permissible scope and conduct of monitoring in accordance with subsection (b); and

(3) Be organized and carry out its business in a manner that guarantees a fair opportunity for the expression and consideration of various positions and for public participation.

The MHCC is deemed an advisory committee not composed of Federal employees.

Public Comment

Interested parties wishing to make comments on the business of the MHCC are encouraged to register by or before Friday, June 20, 2025, by contacting HUD's Administering Organization for the MHCC (AO), Home Innovation Research Labs; Attention: Kevin Kauffman, 400 Prince Georges Blvd., Upper Marlboro, MD 20774, or email to mhcc@homeinnovation.com or call 1-888-602-4663. Written comments are encouraged. The MHCC strives to accommodate citizen comments to the extent possible within the time constraints of the meeting agenda. Advance registration is strongly encouraged. The MHCC will provide an opportunity for public comments on specific matters before the MHCC.

The Department of Housing and Urban Development (HUD), Office of Manufactured Housing Programs, is providing an opportunity for the MHCC to discuss appropriate standards and requirements for multi-story manufactured homes that would not have upper floors built on a permanent chassis. HUD is proposing to modify the standards related to manufactured home chassis requirements within the Manufactured Housing Construction and Safety Standards. HUD is scheduling this meeting with the MHCC to allow robust discussion, analysis, and consideration as the committee is responsible to provide recommendations to the Secretary for the purposes of proceeding with changes to the standards. This meeting is scheduled for one day to provide sufficient time for thorough consideration. HUD, therefore, strongly encourages active participation by committee members, stakeholders, and other interested parties.

Tentative Agenda

(1) Call to Order—MHCC Chair & Mary Jo Houton, Designated Federal Officer (DFO)

(2) Roll Call—AO

(3) Opening Remarks—MHCC Chair & DFO

(4) Introductions:

(a) MHCC Members;

(b) HUD Staff; and

(c) Guests.

(5) Administrative Announcements—DFO & AO

(6) Public Comment Period—15 minutes

(7) Review of Standards Revisions Necessary for Multi-Story Manufactured Homes

(8) Public Comment Period—15 minutes

(9) Wrap Up—DFO & AO

(10) Adjourn

Frank Cassidy,
Principal Deputy Assistant Secretary for Housing.

[FR Doc. 2025-10371 Filed 6-6-25; 8:45 am]

BILLING CODE P